ENVIRONMENTAL PROTECTION AGENCY

[FRL-10016-36-OMS]

Agency Programs Subject to Intergovernmental Review Under Executive Order 12372, Section 204 of the Demonstration Cities and Metropolitan Development Act, and Section 401(a) of the Intergovernmental Cooperation Act of 1968

AGENCY: Environmental Protection Agency (EPA).

ACTION: Notice and request for comments.

SUMMARY: The Environmental Protection Agency (EPA) is publishing an updated list of EPA financial assistance programs which states may choose to review under their Single Point of Contact (SPOC) intergovernmental review processes. These programs are also eligible for intergovernmental review by directly affected state, areawide, regional, and local entities if a state does not have a SPOC or chooses not to review an application for EPA financial assistance. EPA is also streamlining the intergovernmental review process and is offering the public an opportunity to comment on the revisions.

DATES: This list is effective as of November 24, 2020.

FOR FURTHER INFORMATION CONTACT: EPA's National Policy Training and Compliance Division (Attention: Elizabeth January) at EPA_Grants_Info@epa.gov or (202) 564-5310.

SUPPLEMENTARY INFORMATION: As provided in 40 CFR 29.3, EPA published a notice in the Federal Register on April 29, 2004 (69 FR 23502), which listed EPA financial assistance programs subject to review under Executive Order 12372 and Section 204 of the Demonstration Cities and Metropolitan Development Act (Section 204) and Section 401(a) of the Intergovernmental Cooperation Act of 1968 (Section 401). This notice advises the public of the availability of a more current list of EPA programs and activities which states may choose to review under their official Executive Order 12372 SPOC process or are subject to the alternative review process described at 40 CFR 29.7(b) if a state does not have a SPOC or elects not to include an EPA program in the SPOC process.

As part of a streamlining initiative, EPA is limiting intergovernmental review to programs subject to Section 204 and Section 401 or situations in which there are compelling policy reasons to conduct intergovernmental review. Executive Order 12372 exempts tribal programs from intergovernmental review. The list of programs can be found at: https://www.epa.gov/grants/epa-financial-assistance-programs-subject-executive-order-12372-and-section-204-demonstration. These are the only EPA programs under which Intergovernmental Review comments may be submitted to EPA although state or local laws may establish requirements for coordination of requests for Federal funding that cover a broader range of programs and activities.

In the future, as necessary, EPA will update the list of programs subject to intergovernmental review at: https://www.epa.gov/grants/epa-financial-assistance-programs-subject-executive-order-12372-and-section-204-demonstration rather than in Federal Register publications. In Fiscal Year 2021, EPA intends to revise the Assistance Listings for EPA programs in the: beta.SAM.gov Assistance Listings to indicate whether intergovernmental review is required based on this list. These revisions will take place during the annual cycle for updating the Assistance Listings for EPA programs in the beta.SAM.gov Assistance Listings.

Comments may be submitted on EPA's streamlining of the intergovernmental review process and must be received on or before December 24, 2020.

ADDRESSES: Submit your comments, identified by Docket ID No. EPA-HQ-OMS-2020-0348 by one of the following methods:

• www.regulations.gov: Follow the on-line instructions for submitting comments.

• Email: Docket_OMS@epa.gov.

• Mail: OMS Docket, Environmental Protection Agency, Mail Code: 28221T, 1200 Pennsylvania Ave. NW, Washington, DC 20460.

• Hand Delivery: EPA Docket Center, WJC West, Room 3334, 1301 Constitution Ave. NW, Washington, DC 20004. The telephone number for the Docket Center is 202-566-1744. For additional information about EPA's public docket, visit http://www.epa.gov/dockets. Such deliveries are only accepted during the Docket's normal hours of operation: 8:30 a.m. to 4:30 p.m., and special arrangements should be made for deliveries of boxed information.

Instructions: Direct your comments to Docket ID No. EPA-HQ-OMS-2020-0348.

EPA's policy is that all comments received will be included in the public docket without change and may be made available online at http://www.regulations.gov, including any personal information provided, unless the comment includes information claimed to be Confidential Business Information (CBI) or other information whose disclosure is restricted by statute. Do not submit information that you consider to be CBI or otherwise protected through www.regulations.gov or email. The www.regulations.gov website is an “anonymous access” system, which means EPA will not know your identity or contact information unless you provide it in the body of your comment. If you send an email comment directly to EPA without going through www.regulations.gov your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at Docket ID No. EPA-HQ-OMS-2020-0348, OMS Docket, EPA/DC, EPA West, Room 3334, 1301 Constitution Ave. NW, Washington, DC. The Public Reading Room is open by appointment only due to restrictions arising from the COVID-19 public health emergency. Additional information on how to obtain an appointment is available at https://www.epa.gov/dockets/epa-docket-center-and-reading-room-closed-public-limited-exceptions. The telephone number for the Public Reading Room is (202) 566-1744, and the telephone number for the OMS Docket is (202) 566-1752.

Donna Vizian,
Principal Deputy Assistant Administrator, Office of Mission Support.

[FR Doc. 2020-25968 Filed 11-23-20; 8:45 am]

BILLING CODE 6560-50-P